DEPARTMENT OF ENERGY

Federal Energy Regulatory Commission

Combined Notice of Filings #1

Take notice that the Commission received the following electric rate filings:

Docket Numbers: ER10-1836-007; ER10-2005-007; ER11-26-007; ER10-2551-006; ER10-1841-007; ER13-712-007; ER10-1843-007; ER10-1844-007; ER10-1845-007; ER10-1846-006; ER10-1852-010; ER10-1855-006; ER10-1897-007; ER10-1905-007; ER10-1907-007; ER10-1918-007; ER10-1925-007; ER10-1927-007; ER11-2642-007; ER10-1950-007; ER10-2006-008; ER10-1964-007; ER10-1965-007; ER10-1970-007; ER10-1972-007; ER10-1971-020; ER11-4462-012; ER10-1983-007; ER10-1984-007; ER13-2461-002; ER10-1991-007; ER12-1660-007; ER10-1994-006; ER10-2078-008; ER10-1995-006.

Applicants: Ashtabula Wind, LLC, Ashtabula Wind II, LLC, Ashtabula Wind III, LLC, Baldwin Wind, LLC, Butler Ridge Wind Energy Center, LLC, Cimarron Wind Energy, LLC, Crystal Lake Wind, LLC, Crystal Lake Wind II, LLC, Crystal Lake Wind III, LLC, Day County Wind, LLC, Florida Power & Light Company, FPL Energy Burleigh County Wind, LLC, FPL Energy Hancock County Wind, LLC, FPL Energy Mower County, LLC, FPL Energy North Dakota Wind, LLC, FPL Energy North Dakota Wind II, LLC, FPL Energy Oliver Wind I, LLC, FPL Energy Oliver Wind II, LLC, FPL Energy South Dakota Wind, LLC, Garden Wind, LLC, Hawkeye Power Partners, LLC, Lake Benton Power Partners II, LLC, Langdon Wind, LLC, NextEra Energy Duane Arnold, LLC, NextEra Energy Point Beach, LLC, NextEra Energy Power Marketing, LLC, NEPM II, LLC, Osceola Windpower, LLC, Osceola Windpower II, LLC, Pheasant Run Wind, LLC, Story Wind, LLC, Tuscola Bay Wind, LLC, Wessington Wind Energy Center, LLC, White Oak Energy LLC, Wilton Wind II, LLC.

Description: Triennial Market Power Update for the Central Region of the NextEra Companies.

Filed Date: 7/10/15.

Accession Number: 20150710-5260.

Comments Due: 5 p.m. ET 9/8/15.

Docket Numbers: ER11-2489-005; ER15-1019-001; ER14-1656-004; ER14-1439-002; ER13-2308-002; ER13-2102-003; ER12-726-004; ER12-2639-003; ER12-2513-004; ER12-2512-004; ER12-2511-004; ER12-2510-004; ER12-1435-005; ER12-1434-005; ER12-1432-005; ER12-1431-005; ER11-3959-004; ER11-3620-007; ER11-2882-008; ER10-2628-002; ER10-2449-007; ER10-2446-007; ER10-2444-007; ER10-2442-007; ER10-2440-007; ER10-2435-007; ER10-2432-007.

Applicants: Hatchet Ridge Wind, LLC, Spring Valley Wind LLC, Ocotillo Express LLC, Lyonsdale Biomass, LLC, ReEnergy Sterling CT Limited Partnership, Bayonne Plant Holding, L.L.C., Camden Plant Holding, L.L.C., Dartmouth Power Associates Limited Partnership, Elmwood Park Power, LLC, Newark Bay Cogeneration Partnership, L.P, Pedricktown Cogeneration Company LP, York Generation Company LLC, ReEnergy Ashland LLC, ReEnergy Fort Fairfield LLC, ReEnergy Livermore Falls LLC, ReEnergy Stratton LLC, ReEnergy Black River LLC, Brandon Shores LLC, C.P. Crane LLC, H.A. Wagner LLC, Raven Power Marketing LLC, Sapphire Power Marketing LLC, TrailStone Power, LLC, CSOLAR IV West, LLC, Fowler Ridge IV Wind Farm LLC, Lost Creek Wind, LLC, Post Rock Wind Power Project, LLC.

Description: Supplement to June 15, 2015 Notification of Non-Material Change in Status of the Riverstone MBR Entities.

Filed Date: 7/1/15.

Accession Number: 20150701-5369.

Comments Due: 5 p.m. ET 7/22/15.

Docket Numbers: ER15-2154-000.

Applicants: Ashtabula Wind, LLC.

Description: Compliance filing: Ashtabula Wind, LLC Order No. 784 Compliance Filing to be effective 7/11/2015.

Filed Date: 7/10/15.

Accession Number: 20150710-5147.

Comments Due: 5 p.m. ET 7/31/15.

Docket Numbers: ER15-2155-000.

Applicants: Ashtabula Wind II, LLC.

Description: Compliance filing: Ashtabula Wind II, LLC Order No. 784 Compliance Filing to be effective 7/11/2015.

Filed Date: 7/10/15.

Accession Number: 20150710-5148.

Comments Due: 5 p.m. ET 7/31/15.

Docket Numbers: ER15-2156-000.

Applicants: Ashtabula Wind III, LLC.

Description: Compliance filing: Ashtabula Wind III, LLC Order No. 784 Compliance Filing to be effective 7/11/2015.

Filed Date: 7/10/15.

Accession Number: 20150710-5149.

Comments Due: 5 p.m. ET 7/31/15.

Docket Numbers: ER15-2157-000.

Applicants: Baldwin Wind, LLC.

Description: Compliance filing: Baldwin Wind, LLC Order No. 784 Compliance Filing to be effective 7/11/2015.

Filed Date: 7/10/15.

Accession Number: 20150710-5150.

Comments Due: 5 p.m. ET 7/31/15.

Docket Numbers: ER15-2158-000.

Applicants: Butler Ridge Wind Energy Center, LLC.

Description: Compliance filing: Butler Ridge Wind Energy Center, LLC Order No. 784 Compliance Filing to be effective 7/11/2015.

Filed Date: 7/10/15.

Accession Number: 20150710-5151.

Comments Due: 5 p.m. ET 7/31/15.

Docket Numbers: ER15-2159-000.

Applicants: Crystal Lake Wind, LLC.

Description: Compliance filing: Crystal Lake Wind, LLC Order No. 784 Compliance Filing to be effective 7/11/2015.

Filed Date: 7/10/15.

Accession Number: 20150710-5152.

Comments Due: 5 p.m. ET 7/31/15.

Docket Numbers: ER15-2160-000.

Applicants: Crystal Lake Wind II, LLC.

Description: Compliance filing: Crystal Lake Wind II, LLC Order No. 784 Compliance Filing to be effective 7/11/2015.

Filed Date: 7/10/15.

Accession Number: 20150710-5153.

Comments Due: 5 p.m. ET 7/31/15.

Docket Numbers: ER15-2161-000.

Applicants: Crystal Lake Wind III, LLC.

Description: Compliance filing: Crystal Lake Wind III, LLC Order No. 784 Compliance Filing to be effective 7/11/2015.

Filed Date: 7/10/15.

Accession Number: 20150710-5154.

Comments Due: 5 p.m. ET 7/31/15.

Docket Numbers: ER15-2162-000.

Applicants: Day County Wind, LLC.

Description: Compliance filing: Day County Wind, LLC Order No. 784 Compliance Filing to be effective 7/11/2015.

Filed Date: 7/10/15.

Accession Number: 20150710-5155.

Comments Due: 5 p.m. ET 7/31/15.

Docket Numbers: ER15-2163-000.

Applicants: FPL Energy Burleigh County Wind, LLC.

Description: Compliance filing: FPL Energy Burleigh County Wind, LLC Order No. 784 Compliance Filing to be effective 7/11/2015.

Filed Date: 7/10/15.

Accession Number: 20150710-5156.

Comments Due: 5 p.m. ET 7/31/15.

Docket Numbers: ER15-2164-000.

Applicants: FPL Energy Hancock County Wind, LLC.

Description: Compliance filing: FPL Energy Hancock County Wind, LLC Order No. 784 Compliance Filing to be effective 7/11/2015.

Filed Date: 7/10/15.

Accession Number: 20150710-5157.

Comments Due: 5 p.m. ET 7/31/15.

Docket Numbers: ER15-2165-000.

Applicants: FPL Energy Mower County, LLC.

Description: Compliance filing: FPL Energy Mower County, LLC Order No. 784 Compliance Filing to be effective 7/11/2015.

Filed Date: 7/10/15.

Accession Number: 20150710-5158.

Comments Due: 5 p.m. ET 7/31/15.

Docket Numbers: ER15-2166-000.

Applicants: FPL Energy North Dakota Wind, LLC.

Description: Compliance filing: FPL Energy North Dakota Wind, LLC Order No. 784 Compliance Filing to be effective 7/11/2015.

Filed Date: 7/10/15.

Accession Number: 20150710-5159.

Comments Due: 5 p.m. ET 7/31/15.

Docket Numbers: ER15-2167-000.

Applicants: FPL Energy North Dakota Wind II, LLC.

Description: Compliance filing: FPL Energy North Dakota Wind II, LLC Order No. 784 Compliance Filing to be effective 7/11/2015.

Filed Date: 7/10/15.

Accession Number: 20150710-5160.

Comments Due: 5 p.m. ET 7/31/15.

Docket Numbers: ER15-2168-000.

Applicants: FPL Energy Oliver Wind I, LLC.

Description: Compliance filing: FPL Energy Oliver Wind I, LLC Order No. 784 Compliance Filing to be effective 7/11/2015.

Filed Date: 7/10/15.

Accession Number: 20150710-5161.

Comments Due: 5 p.m. ET 7/31/15.

Docket Numbers: ER15-2169-000.

Applicants: FPL Energy Oliver Wind II, LLC.

Description: Compliance filing: FPL Energy Oliver Wind II, LLC Order No. 784 Compliance Filing to be effective 7/11/2015.

Filed Date: 7/10/15.

Accession Number: 20150710-5162.

Comments Due: 5 p.m. ET 7/31/15.

Docket Numbers: ER15-2170-000.

Applicants: FPL Energy South Dakota Wind, LLC.

Description: Compliance filing: FPL Energy South Dakota Wind, LLC Order No. 784 Compliance Filing to be effective 7/11/2015.

Filed Date: 7/10/15.

Accession Number: 20150710-5164.

Comments Due: 5 p.m. ET 7/31/15.

Docket Numbers: ER15-2171-000.

Applicants: Garden Wind, LLC.

Description: Compliance filing: Garden Wind, LLC Order No. 784 Compliance Filing to be effective 7/11/2015.

Filed Date: 7/10/15.

Accession Number: 20150710-5165.

Comments Due: 5 p.m. ET 7/31/15.

Docket Numbers: ER15-2172-000.

Applicants: Lake Benton Power Partners II, LLC.

Description: Compliance filing: Lake Benton Power Partners II, LLC Order No. 784 Compliance Filing to be effective 7/11/2015.

Filed Date: 7/10/15.

Accession Number: 20150710-5166.

Comments Due: 5 p.m. ET 7/31/15.

Docket Numbers: ER15-2173-000.

Applicants: Langdon Wind, LLC.

Description: Compliance filing: Langdon Wind, LLC Order No. 784 Compliance Filing to be effective 7/11/2015.

Filed Date: 7/10/15.

Accession Number: 20150710-5167.

Comments Due: 5 p.m. ET 7/31/15.

Docket Numbers: ER15-2174-000.

Applicants: NextEra Energy Duane Arnold, LLC.

Description: Compliance filing: NextEra Energy Duane Arnold, LLC Order No. 784 Compliance Filing to be effective 7/11/2015.

Filed Date: 7/10/15.

Accession Number: 20150710-5168.

Comments Due: 5 p.m. ET 7/31/15.

Docket Numbers: ER15-2175-000.

Applicants: NextEra Energy Point Beach, LLC.

Description: Compliance filing: NextEra Energy Point Beach, LLC Order No. 784 Compliance Filing to be effective 7/11/2015.

Filed Date: 7/10/15.

Accession Number: 20150710-5169.

Comments Due: 5 p.m. ET 7/31/15.

Docket Numbers: ER15-2176-000.

Applicants: Osceola Windpower, LLC.

Description: Compliance filing: Osceola Windpower, LLC Order No. 784 Compliance Filing to be effective 7/11/2015.

Filed Date: 7/10/15.

Accession Number: 20150710-5170.

Comments Due: 5 p.m. ET 7/31/15.

Docket Numbers: ER15-2177-000.

Applicants: Osceola Windpower II, LLC.

Description: Compliance filing: Osceola Windpower II, LLC Order No. 784 Compliance Filing to be effective 7/11/2015.

Filed Date: 7/10/15.

Accession Number: 20150710-5171.

Comments Due: 5 p.m. ET 7/31/15.

Docket Numbers: ER15-2178-000.

Applicants: Pheasant Run Wind, LLC.

Description: Compliance filing: Pheasant Run Wind, LLC Order No. 784 Compliance Filing to be effective 7/11/2015.

Filed Date: 7/10/15.

Accession Number: 20150710-5172.

Comments Due: 5 p.m. ET 7/31/15.

Docket Numbers: ER15-2179-000.

Applicants: Story Wind, LLC.

Description: Compliance filing: Story Wind, LLC Order No. 784 Compliance Filing to be effective 7/11/2015.

Filed Date: 7/10/15.

Accession Number: 20150710-5173.

Comments Due: 5 p.m. ET 7/31/15.

Docket Numbers: ER15-2180-000.

Applicants: Tuscola Bay Wind, LLC.

Description: Compliance filing: Tuscola Bay Wind, LLC Order No. 784 Compliance Filing to be effective 7/11/2015.

Filed Date: 7/10/15.

Accession Number: 20150710-5174.

Comments Due: 5 p.m. ET 7/31/15.

Docket Numbers: ER15-2181-000.

Applicants: Tuscola Wind II, LLC.

Description: Compliance filing: Tuscola Wind II, LLC Order No. 784 Compliance Filing to be effective 7/11/2015.

Filed Date: 7/10/15.

Accession Number: 20150710-5176.

Comments Due: 5 p.m. ET 7/31/15.

Docket Numbers: ER15-2182-000.

Applicants: Wessington Wind Energy Center, LLC.

Description: Compliance filing: Wessington Wind Energy Center, LLC Order No. 784 Compliance Filing to be effective 7/11/2015.

Filed Date: 7/10/15.

Accession Number: 20150710-5177.

Comments Due: 5 p.m. ET 7/31/15.

Docket Numbers: ER15-2183-000.

Applicants: Wilton Wind II, LLC.

Description: Compliance filing: Wilton Wind II, LLC Order No. 784 Compliance Filing to be effective 7/11/2015.

Filed Date: 7/10/15.

Accession Number: 20150710-5178.

Comments Due: 5 p.m. ET 7/31/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 13, 2015.
Nathaniel J. Davis, Sr.,
Deputy Secretary.

[FR Doc. 2015-17691 Filed 7-17-15; 8:45 am]

BILLING CODE 6717-01-P